SECURITIES AND EXCHANGE COMMISSION

[Release No. 34-43167; File No. SR-ODD-00-03]

Self-Regulatory Organizations; The Options Clearing Corporation; Order Granting Approval to Proposed Supplement to Options Disclosure Document Regarding Risks of Options Positions

August 17, 2000.

On June 26, 2000, the Options Clearing Corporation (“OCC”) submitted to the Securities and Exchange Commission (“SEC” or “Commission”), pursuant to Rule 9b-1 under the Securities Exchange Act of 1934 (“Act”),¹ five definitive copies of a Supplement to its options disclosure document (“ODD”), which describes, among other things, the principal risks of options positions. In particular, the Supplement amends certain parts of Chapter 10 that describe the effect of unusual circumstances on the settlement procedures for standardized options.²

¹ 17 CFR 240.9b-1.

² See Letter from James C. Yong, First Vice President and Deputy General Counsel, OCC, to Elizabeth King, Associate Director, Division of Market Regulation, Commission, dated June 26, 2000.

The ODD currently contains general disclosures on the characteristics and risks of trading standardized options. The Commission has approved OCC rule proposals that change or clarify the settlement procedures for options positions in unusual circumstances, such as when a primary market for component securities of an index option is not open on the last trading day before expiration.³ The proposed Supplement incorporates descriptions of these changes or clarifications into the ODD.

³ See Securities Exchange Act Release No. 42769 (May 9, 2000), 65 FR 31036 (May 15, 2000) (order approving SR-OCC-00-01); Securities Exchange Act Release No. 42769 (June 1, 2000), 65 FR 36489 (June 8, 2000) (order approving SR-OCC-99-16).

The Commission has reviewed the ODD Supplement and finds that it complies with Rule 9b-1 under the Act.⁴ The Supplement is intended to be read in conjunction with the ODD, which discusses the characteristics and risks of options generally. The ODD, along with the Supplement, provides information regarding the principal risks of options positions, including the effect of unusual circumstances on the settlement procedures for standardized options. Rule 9b-1 provides that an options market must file five preliminary copies of an amended ODD with the Commission at least 30 days prior to the date definitive copies of the ODD are furnished to customers, unless the Commission determines otherwise, having due regard for the adequacy of information disclosed and the protection of investors.⁵ The Commission has reviewed the Supplement, and finds that it is consistent with the protection of investors and in the public interest to allow the distribution of the Supplement as of the date of this order.

⁴ 17 CFR 240.9b-1.

⁵ This provision is intended to permit the Commission either to accelerate or extend the time period in which definitive copies of a disclosure document may be distributed to the public.

It Is Therefore Ordered, pursuant to Rule 9b-1 under the Act,⁶ that the proposed Supplement regarding special settlement procedures (SR-ODD-00-03) is approved on an accelerated basis.

⁶ 17 CFR 240.9b-1.

For the Commission, by the Division of Market Regulation, pursuant to delegated authority.⁷
⁷ 17 CFR 200.30-3(a)(39).
Margaret H. McFarland,
Deputy Secretary.

[FR Doc. 00-21520 Filed 8-22-00; 8:45 am]

BILLING CODE 8010-01-M